ENVIRONMENTAL PROTECTION AGENCY

[EPA R9-2021-01; FRL-10022-29-Region 9]

Notice of Proposed Administrative Settlement Agreement and Order on Consent for Cost Recovery of Past Response Costs at the Advanced Micro Devices, Inc. Building 915 Superfund Site, Sunnyvale, California

AGENCY: Environmental Protection Agency (EPA).

ACTION: Notice of proposed settlement; request for public comment.

SUMMARY: In accordance with the Comprehensive Environmental Response, Compensation and Liability Act of 1980, as amended (“CERCLA”), notice is hereby given that the Environmental Protection Agency (“EPA”), has entered into a proposed settlement, embodied in an Administrative Settlement Agreement and Order on Consent for Cost Recovery (“Settlement Agreement”), with Advanced Micro Devices, Inc. (“AMD”). Under the Settlement Agreement, AMD agrees to pay some of EPA's past response costs at the AMD Building 915 Superfund Site (“AMD 915 Site”) in Sunnyvale, California.

DATES: Comments must be received on or before May 24, 2021.

ADDRESSES: The proposed settlement agreement is available for public inspection at https://semspub.epa.gov/work/09/100023247.pdf. Comments on the Settlement Agreement should be submitted in writing to Rebekah Reynolds at reynolds.rebekah@epa.gov. Comments should reference the AMD Building 915 Superfund Site and the EPA Docket Number for the Settlement Agreement, EPA R9-2021-01. If for any reason you are not able to submit a comment by email, please contact Ms. Reynolds at (415) 972-3916 to make alternative arrangements for submitting your comment. EPA will post its response to any comments at https://cumulis.epa.gov/supercpad/cursites/csitinfo.cfm?id=0902708, EPA's website for the AMD 915 Site.

FOR FURTHER INFORMATION CONTACT: Rebekah Reynolds, Assistant Regional Counsel (ORC-3), Office of Regional Counsel, U.S. EPA Region IX, 75 Hawthorne Street, San Francisco, CA 94105; Email: reynolds.rebekah@epa.gov; Phone (415) 972-3916.

SUPPLEMENTARY INFORMATION: Notice of this proposed administrative settlement is made in accordance with Section 122(i) of CERCLA. The Settlement Agreement concerns past response costs incurred by EPA to perform oversight at the AMD 915 Site from September 30, 2017 to December 31, 2019. Under the Settlement Agreement, AMD agrees to pay EPA $69,711.43 out of $90,116.11 in past response costs, representing a compromise of $20,404.68. The settlement will compensate EPA for the portion of its past response costs related to oversight of vapor intrusion risks at the AMD 915 Site. The Settlement Agreement includes a covenant not to sue AMD for past response costs pursuant to Section 107(a) of CERCLA. EPA will consider all comments received on the Settlement Agreement in accordance with the DATES and ADDRESSES sections of this Notice and may modify or withdraw its consent to the Settlement Agreement if comments received disclose facts or considerations that indicate that the settlement is inappropriate, improper, or inadequate.

Dated: April 16, 2021.
Enrique Manzanilla,
Director, Superfund Division, EPA Region 9.

[FR Doc. 2021-08431 Filed 4-22-21; 8:45 am]

BILLING CODE 6560-50-P